DEPARTMENT OF HEALTH AND HUMAN SERVICES

Centers for Disease Control and Prevention

[60-Day-14-14CJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Racial and Ethnic Approaches to Community Health (REACH) Demonstration Projects: Evaluation Study—New—National Center for Chronic Disease Prevention and Health Promotion (NCCDPHP), Centers for Disease Control and Prevention (CDC).

Background and Brief Description

In the United States, chronic conditions such as heart disease, obesity and diabetes are among the leading causes of death and disability. The devastating effects of these conditions can be reduced by adopting healthy behaviors such as eating nutritious foods, being physically active and avoiding tobacco use.

CDC has supported a variety of programs aimed at promoting evidenced-based strategies to improve public health. However, despite indications of progress in overall population health, disparities in health status persist for many minority groups.

In fiscal year 2012, CDC received Affordable Care Act (ACA) funding to support Racial and Ethnic Approaches to Community Health (REACH) demonstration projects in two sites (Boston, Massachusetts, and Los Angeles, California). The sites are implementing culturally-tailored policy, systems, and environmental (PSE) strategies aimed at reducing rates of obesity and hypertension, and promoting health equity.

CDC plans to assess the effectiveness of the REACH demonstration projects through the “REACH Demonstration Projects: Evaluation Study (RES).” The RES is designed to examine the health impact of PSE strategies for promoting health. As required by the ACA, the evaluation will specifically assess changes in weight, proper nutrition, physical activity, tobacco use prevalence, and emotional well-being. Information collected for the RES will consist of targeted surveillance data, biometric measures, and information about health and life style decision making at the REACH demonstration program sites and one non-intervention comparison site (Atlanta, Georgia). Information will also be collected about key cultural and contextual factors that affect health and lifestyle decision-making. This information will provide insights about the barriers and facilitators that affect the adoption of healthy behaviors.

The specific aims of the RES include the following: (1) Examine trends of risk factors for chronic disease using behavioral and biometric indicators. (2) Examine the reduction in health disparities within targeted populations for obesity and hypertension. (3) Identify factors that contribute to the decision-making process for individual change in health-related behavior and lifestyle change through the REACH health and lifestyle decision-making domain (HD).

The RES uses a cross-sectional design and will be conducted over a period of two years, collecting survey and biometric data in two cycles of data collection approximately 12 to 15 months apart. Respondents will be representative samples of adults who are 18 years of age or older, and youths between the ages of 9 and 17 years of age, who reside in the two REACH Demonstration sites or the comparison site. An address-based sampling (ABS) approach will be used to select the sample for each site. The sampling design will oversample households containing Black and Hispanic persons (targeted populations) and youths. For each REACH demonstration site, this will result in a sample of up to 1,800 adults and 400 youths for each cycle of data collection. The sample for the comparison site will consist of 2,400 adults and 800 youth for each cycle of data collection.

The information collection plan and instruments for the RES are modeled on the instruments and procedures developed by CDC for Community Transformation Grant (CTG) awardees (Targeted Surveillance and Biometric Studies for Enhanced Evaluation of CTGs, Office of Management and Budget (OMB) No. 0920-0977, exp. 8/31/2016). For the RES, a Health and Lifestyle Decision-Making domain has been added to the Adult Targeted Surveillance Survey (ATSS) to assess individual change in health-related behavior and lifestyle. The Health and Lifestyle Decision-Making domain was developed by an expert panel that convened to conceptualize and operationalize the survey items based on the literature and existing instruments.

The RES will enable CDC to compare data across the three sites at two time periods and to use these data for comparisons with other sources of information, such as state-based behavioral risk factor surveys and the National Health and Nutrition Examination Survey (NHANES, OMB No. 0920-0237, exp. 10/31/2013). In addition, the added REACH Demonstration health and lifestyle decision-making domain will identify key contextual factors, such as perceived discrimination, perceived neighborhood safety, mistrust, and other concerns or issues that could potentially serve as mediating and moderating variables that impact health and lifestyle decisions.

The study will use computer-assisted personal interviewing technology. The names of respondents will not be included in any data sets or reports prepared from this project. Office of Management and Budget approval is requested for two years. Participation is voluntary, and there are no costs to respondents other than their time.

Estimated Annualized Burden Hours
Type of respondents | Form name | Number of respondents | Number of responses per respondent | Average burden per response (in hrs) | Total burden (in hrs)
Adults ≥ 18 years of age in REACH Demonstration Program Sites or the Comparison Site | Adult Telephone/In-person Recruitment Screener Adult Targeted Surveillance Survey with HD Module | 8,000 6,000 | 1 1 | 3/60 45/60 | 400 4,500
| Adult Biometric Measures | 2,400 | 1 | 30/60 | 1,200
Youth ages 9-17 years in REACH Demonstration Program Sites or the Comparison Site Youth Biometric Measures | Youth Targeted Surveillance Survey | 1,600 1,600 | 1 1 | 20/60 20/60 | 533 533
Total |  |  |  |  | 7,166

Leroy A. Richardson,
Chief, Information Collection Review Office, Office of Scientific Integrity, Office of the Associate Director for Science, Office of the Director, Centers for Disease Control and Prevention.

[FR Doc. 2013-27372 Filed 11-14-13; 8:45 am]

BILLING CODE 4163-18-P